ENVIRONMENTAL PROTECTION AGENCY

[ER-FRL-9047-3]

Environmental Impact Statements; Notice of Availability

Responsible Agency: Office of Federal Activities, General Information 202-564-5632 or https://www.epa.gov/nepa/.

Weekly receipt of Environmental Impact Statements

Filed 09/23/2019 10 a.m. ET Through 09/30/2019 10 a.m. ET

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190237, Final Supplement, BLM, MT, Miles City Field Office Final Supplemental EIS and Proposed RMP Amendment, Review Period Ends: 11/04/2019, Contact: Irma Nansel 406-233-3653

EIS No. 20190238, Final Supplement, BLM, WY, Buffalo Field Office Final Supplemental EIS and Proposed RMP Amendment, Review Period Ends: 11/04/2019, Contact: Thomas Bills 307-684-1133

EIS No. 20190239, Draft, USFWS, OR, Deschutes Basin Habitat Conservation Plan, Comment Period Ends: 11/18/2019, Contact: Bridget Moran 541-383-7146

EIS No. 20190240, Draft Supplement, FERC, LA, Magnolia Liquefied Natural Gas Production Capacity Amendment, Comment Period Ends: 11/18/2019, Contact: Office of External Affairs 866-208-3372

EIS No. 20190241, Final, USFWS, IA, Proposed Habitat Conservation Plan and Incidental Take Permit, Review Period Ends: 11/04/2019, Contact: Kraig McPeek 309-757-5800

EIS No. 20190242, Draft, USFS, BLM, CO, Draft Resource Management Plan and Associated Environmental Impact Statement for the Browns Canyon National Monument, Colorado, Comment Period Ends: 01/02/2020, Contact: Joseph Vieira 719-246-9966

EIS No. 20190243, Final Supplement, FHWA, GSA, ME, New Madawaska U.S. Land Port of Entry and International Bridge Project, Review Period Ends: 11/04/2019, Contact: Alexas Kelly 617-549-8190

EIS No. 20190244, Second Draft Supplemental, DOS, MT, Keystone XL Project, Comment Period Ends: 11/18/2019, Contact: M. Ross Alliston 202-647-4828

Dated: October 1, 2019.
Robert Tomiak,
Director, Office of Federal Activities.

[FR Doc. 2019-21655 Filed 10-3-19; 8:45 am]

BILLING CODE 6560-50-P